DEPARTMENT OF LABOR

Employment and Training Administration

Office of Apprenticeship, Notice of Town Hall Meeting on Federal Regulations for Equal Employment Opportunity in Apprenticeship and Training

AGENCY: Employment and Training Administration, Labor.

ACTION: Notice of town hall meetings.

SUMMARY: The Employment and Training Administration's (ETA) Office of Apprenticeship (OA), U.S. Department of Labor (DOL), is giving notice of three town hall meetings and one on-line webinar to allow interested individuals an opportunity to provide feedback on and suggestions for revising the current regulations for Equal Employment and Opportunity in Apprenticeship and Training codified at Title 29 Code of Federal Regulations (CFR) part 30.

Notice of intention to attend the stakeholder meeting: OA requests that you submit a notice of intention to attend (i.e., to participate or observe) the stakeholder meetings no later than three business days prior to the meeting date.

DATES: The town hall meetings will be held on:

1. March 18, 2010, 10 a.m. to 12 p.m., Washington, DC;

2. March 23, 2010, 10 a.m. to 12 p.m., Oakland, California;

3. March 25, 2010, 10 a.m. to 12 p.m., Chicago, Illinois; and

4. April 7, 2010, 2 to 3 p.m., Eastern Standard Time, via an on-line webinar.

ADDRESSES: The town hall meeting locations are:

1. March 18, 2010, 10 a.m. to 12 p.m., The Washington Court Hotel, 525 New Jersey Avenue, NW., Washington, DC 20001;

2. March 23, 2010, 10 a.m. to 12 p.m., The James Irvine Conference Center, Plaza A, 353 Frank Ogawa Plaza, Oakland, California 94612;

3. March 25, 2010, 10 a.m. to 12 p.m., University Center, 525 S. State Street, Chicago, Illinois 60605; and

4. April 7, 2010, 2 p.m. to 3 p.m., Eastern Standard Time for webinar hosted on the DOL ETA Web site at: http://www.workforce3one.org.

Submit notice of intention to attend or present an oral statement at a town hall meeting to Carol Johnson, Coffey Consulting, LLC, at 301-907-0900, or by e-mail to cjohnson@coffeyconsultingllc.com. Written statements may be sent to the Employment and Training Administration, Office of Apprenticeship, 200 Constitution Avenue NW., Room N5311, Washington, DC 20210, Attention: Mr. John V. Ladd, or on-line at www.regulations.gov. For detailed requirements related to these submissions, see the SUPPLEMENTARY INFORMATION section below.

FOR FURTHER INFORMATION CONTACT: Mr. John Ladd, Administrator, Office of Apprenticeship, Employment and Training Administration, U.S. Department of Labor, Room N-5311, 200 Constitution Avenue, NW., Washington, DC 20210. Telephone: (202) 693-2796, (this is not a toll-free number); and e-mail: oa.administrator@dol.gov.

SUPPLEMENTARY INFORMATION: The National Apprenticeship Act of 1937 authorizes the U.S. Department of Labor to formulate and promote the furtherance of labor standards necessary to safeguard the welfare of apprentices. 29 U.S.C. 50. The responsibility for formulating and promoting these labor standards lies with OA. As part of its duties, OA registers apprenticeship programs that meet certain minimum labor standards. Those standards, set forth at 29 CFR parts 29 and 30, are intended to provide for more uniform training of apprentices and to promote equal opportunity. In October 2008, OA published newly amended part 29 regulations, which set forth labor standards to safeguard the welfare of apprentices by prescribing policies and procedures concerning (1) the registration, cancellation, and deregistration of apprenticeship programs and agreements; (2) the recognition of State Apprenticeship Agencies; and (3) matters relating thereto (73 FR 64402, Oct. 29, 2008). These regulations can be accessed on OA's Web site at http://www.doleta.gov/oa/pdf/FinalRule29CFRPart29.pdf.

DOL is now in the process of drafting a Notice of Proposed Rulemaking (NPRM) to update and strengthen the equal employment opportunity (EEO) requirements under the part 30 regulations, which were last amended in 1978, and to ensure that the regulations align with the recent revisions to the part 29 regulations, as announced in the Department's Semiannual Agenda Of Regulations (74 FR 4, Dec. 7, 2009). The current EEO requirements under the part 30 regulations can be accessed on the Department's Web site at http://www.dol.gov/dol/allcfr/Title_29/Part_30/toc.htm

As part of the rulemaking process, OA will be reviewing barriers to equal opportunity in registered apprenticeship programs and will be looking at ways to ensure that all individuals, including women and minorities, have equal opportunities in registered apprenticeship programs. Revisions to the equal opportunity regulatory framework for the National Apprenticeship Act are a critical element in the Department's vision to promote and expand registered apprenticeship opportunities in the 21st century while continuing to safeguard the welfare and safety of apprentices.

The purpose of the upcoming town hall meetings is to listen to stakeholders' concerns and ideas about the part 30 regulations and to explain how stakeholders can participate in the impending official rulemaking process.

To help inform the development of the NPRM, DOL is interested in receiving feedback from stakeholders on the effectiveness of the current apprenticeship EEO regulations and suggestions and recommendations for revising the regulations. DOL is particularly interested in the following:

• Sponsors' employment practices that have been particularly effective in recruiting women and minorities for registered apprenticeship programs, such as through pre-apprenticeship programs and partnerships with vocational schools;

• Effective outreach and recruitment strategies to notify the public about registered apprenticeship opportunities;

• Sponsors' employment practices, such as mentoring and support groups, that have been particularly effective strategies in retaining women and minorities in registered apprenticeship programs;

• The methods sponsors use for selecting registered apprentices; and

• Sponsors' experiences with the use of private review bodies for receiving and processing complaints.

Each attendee is welcome to offer feedback and suggestions, but meeting participants are not expected to prepare and present formal testimony. Participants presenting oral statements will be heard in the order in which they sign up on-site on the day of the town hall meeting.

Public Participation

All interested parties are invited to attend the town hall meetings. For the March 18, March 23, and March 25 meetings, DOL requests that you submit no later than three business days prior, a notice of intention to attend if you wish to participate or observe a town hall meeting. You may submit your intention to attend the town hall meetings to Carol Johnson, Coffey Consulting, LLC: (1) Electronically via e-mail to cjohnson@coffeyconsultingllc.com; (2) by facsimile to (301) 907-2925 (this is not a toll-free number); or (3) by telephone to (301) 907-0900 (this is not a toll-free number).

Notices of intention to attend the town hall meetings should include the following information:

• Name and contact information;

• Affiliation (organization, association, if any);

• Whether you wish to be an active participant or observer; and

• Whether you need any special accommodations in order to attend or participate in the town hall meeting.

Members of the public wishing to make statements with their feedback on and suggestions for revising the current regulations should limit oral statements to five minutes at the town hall meetings. Members of the public wishing to present an oral statement at a town hall meeting should forward their requests as soon as possible but no later than March 15, 2010, for the Washington, DC meeting, March 19, 2010, for the Oakland meeting, and March 22, 2010, for the Chicago meeting. Individual requests may be made by telephone to Carol Johnson, Coffey Consulting, LLC, at 301-907-0900, or by e-mail to cjohnson@coffeyconsultingllc.com.

Reasonable accommodations will be available for the town hall meetings. Persons needing any special assistance such as sign language interpretation, or other special accommodation, are invited to contact Carol Johnson of Coffey Consulting, LLC, at 301-907-0900, or by e-mail to cjohnson@coffeyconsultingllc.com.

Members of the public wishing to participate in the on-line webinar must register for this session through the DOL ETA sponsored Web site at: http://www.workforce3one.org. Registration for this webinar is required prior to the event, and the capacity will be limited to the first 100 registrants. Staff and members of organizations are encouraged to register and participate as a single registrant.

Members of the public may also submit written statements without presenting oral statements. Individuals may submit written feedback on and suggestions for revising the current regulations to the Employment and Training Administration, Office of Apprenticeship, 200 Constitution Avenue NW., Room N5311, Washington, DC 20210, Attention: Mr. John V. Ladd, or on-line at www.regulations.gov. In order to submit your comments via www.regulations.gov, use the Docket Identification Number “ETA-2010-0001” and follow the Web site instructions for submitting comments. Please be advised that the Department will make the comments it receives available to the public without making any change to the comments, or redacting any information. Therefore, the Department recommends that submitters safeguard any personal information such as Social Security Numbers, personal addresses, telephone numbers, and e-mail addresses included in their comments as such information may become easily available to the public. To ensure consideration, written comments must be must be received on or before April 16, 2010.

Signed at Washington, DC, this 2nd day of March 2010.
Jane Oates,
Assistant Secretary, Employment and Training Administration.

[FR Doc. 2010-4743 Filed 3-5-10; 8:45 am]

BILLING CODE 4510-FN-P